DEPARTMENT OF LABOR

Office of the Secretary

Office of Trade and Labor Affairs; National Advisory Committee for Labor Provisions of U.S. Free Trade Agreements; Notice of Open Meeting

AGENCY: Bureau of International Labor Affairs, U.S. Department of Labor.

ACTION: Notice of Open Meeting, August 25, 2011.

SUMMARY: Pursuant to the Federal Advisory Committee Act (FACA), as amended, 5. U.S.C. App. 2, the Office of Trade and Labor Affairs (OTLA) gives notice of a meeting of the National Advisory Committee for Labor Provisions of U.S. Free Trade Agreements (“Committee” or “NAC”), which was established by the Secretary of Labor.

The purpose of the meeting is to provide advice to the Secretary of Labor through the Bureau of International Labor Affairs (ILAB) concerning the implementation of the North American Agreement on Labor Cooperation (NAALC)—the labor side accord to the North American Free Trade Agreement (NAFTA)—and the labor provisions of free trade agreements.

DATES: The Committee will meet on Thursday, August 25, 2011 from 9 a.m. to 5 p.m.

ADDRESSES: The Committee will meet at the U.S. Department of Labor, 200 Constitution Avenue, NW., Secretary's Conference Room, Washington, DC 20210. Mail comments, views, or statements in response to this notice to Paula Church Albertson, Office of Trade and Labor Affairs, ILAB, U.S. Department of Labor, 200 Constitution Avenue, NW., Room S-5004, Washington, DC 20210; phone (202) 693-4789; fax (202) 693-4784.

FOR FURTHER INFORMATION CONTACT: Paula Church Albertson, Designated Federal Officer, Office of Trade and Labor Affairs, Bureau of International Labor Affairs, U.S. Department of Labor, 200 Constitution Avenue, NW., Room S-5004, Washington, DC 20210; phone (202) 693-4789 (this is not a toll free number). Individuals with disabilities wishing to attend the meeting should contact Ms. Albertson no later than August 18, 2011, to obtain appropriate accommodations.

SUPPLEMENTARY INFORMATION: NAC meetings are open to the public on a first-come, first-served basis, as seating is limited. Attendees must present valid identification and will be subject to security screening to access the Department of Labor for the meeting.

Agenda: The NAC agenda will include: an overview of labor provisions in U.S. free trade agreements; an update on labor chapter submissions and processes; a discussion of the NAALC; and sessions on engaging with trade partner governments and enhancing public dialogue.

Public Participation: Written data, views, or comments for consideration by the NAC on the various agenda items listed above should be submitted to Paula Church Albertson at the address listed above. Submissions received by August 18, 2011, will be provided to Committee members and will be included in the record of the meeting. Requests to make oral presentations to the Committee may be granted as time permits.

Sandra Polaski,
Deputy Undersecretary, International Affairs.

[FR Doc. 2011-20084 Filed 8-8-11; 8:45 am]

BILLING CODE 4510-28-P